FEDERAL COMMUNICATIONS COMMISSION

[WC Docket No. 09-197; WT Docket No. 10-208; AU Docket No. 12-25; DA 12-271]

Eligible Telecommunications Carrier Designation for Participation in Mobility Fund Phase I

AGENCY: Federal Communications Commission.

ACTION: Notice.

SUMMARY: In this document, the Commission's Wireless Telecommunications and Wireline Competition Bureaus describe the process and requirements for applicants seeking Eligible Telecommunications Carrier (ETC) Designation from the Commission for participation in Mobility Fund Phase I Auction 901.

ADDRESSES: All petitions to be designated an ETC must reference WC Docket No. 09-197. In addition, petitions to be designated for purposes of participation in Auction 901 must reference WT Docket No. 10-208 and AU Docket No. 12-25. The Wireless Telecommunications and Wireline Competition Bureaus strongly encourage interested parties to file petitions electronically, and request that an additional copy of all petitions be submitted electronically to the following address: auction901@fcc.gov. Petitions may be filed using the Commission's Electronic Comment Filing System (ECFS) or by filing paper copies.

Electronic Filers: Petitions may be filed electronically using the Internet by accessing the ECFS: http://fjallfoss.fcc.gov/ecfs2/.

Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St. SW., Room TW-A325, Washington, DC 20554. All hand deliveries must be held together with rubber bands or fasteners. Any envelopes must be disposed of before entering the building. The filing hours are 8 a.m. to 7 p.m. Commercial overnight mail (other than U.S. Postal Service Express Mail and Priority Mail) must be sent to 9300 East Hampton Drive, Capitol Heights, MD 20743. U.S. Postal Service first-class, Express, and Priority mail must be addressed to 445 12th Street SW., Washington, DC 20554.

People with Disabilities: To request materials in accessible formats for people with disabilities (Braille, large print, electronic files, audio format), send an email to fcc504@fcc.gov or call the Consumer & Governmental Affairs Bureau at (202) 418-0530 (voice), (202) 418-0432 (tty).

Additional Filings. In addition:

One copy of each petition must be sent to the Commission's duplicating contractor, Best Copy and Printing, Inc., 445 12th Street SW., Room CY-B402, Washington, DC 20554, www.bcpiweb.com; phone: (202) 488-5300 fax: (202) 488-5563.

FOR FURTHER INFORMATION CONTACT: Wireless Telecommunications Bureau, Auctions and Spectrum Access Division concerning Auction 901 (ETC) please call Erik Salovaara at (202) 418-0660.

SUPPLEMENTARY INFORMATION: This is a summary of the Auction 901 ETC Public Notice released on February 24, 2012. The complete text of the Auction 901 ETC Public Notice, including an attachment and related Commission documents, is available for public inspection and copying from 8 a.m. to 4:30 p.m. Eastern Time (ET) Monday through Thursday or from 8 a.m. to 11:30 a.m. ET on Fridays in the FCC Reference Information Center, 445 12th Street SW., Room CY-A257, Washington, DC 20554. The Auction 901 ETC Public Notice and related Commission documents also may be purchased from the Commission's duplicating contractor, Best Copy and Printing, Inc. (BCPI), 445 12th Street SW., Room CY-B402, Washington, DC 20554, telephone 202-488-5300, fax 202-488-5563, or you may contact BCPI at its Web site: http://www.BCPIWEB.com. When ordering documents from BCPI, please provide the appropriate FCC document number, for example, DA 12-271. The Auction 901 ETC Public Notice and related documents also are available on the Internet at the Commission's Web site: http://wireless.fcc.gov, or by using the search function for Dockets, AU 12-25, WC 09-197 and WT 10-208 on the Commission's Electronic Comment Filing System (ECFS) web page at http://www.fcc.gov/cgb/ecfs/.

1. Any party that wishes to participate in Auction 901 for Connect America Fund (CAF) Mobility Fund Phase I support must be designated as an eligible telecommunications carrier in any geographic area for which it seeks such support, with one exception for Tribal entities. Under the exception, a Tribally-owned or controlled entity may participate with respect to its Tribal lands, if prior to filing an application, it has a pending petition but has not yet been designated as an ETC for the relevant Tribal lands. An entity covered by this exception must be designated as an ETC before it may receive Mobility Fund Phase I support. Interested parties should ascertain whether they have the necessary ETC designation or need to seek such designation. Common carriers subject to the jurisdiction of a state in which they seek designation should petition that state's commission for designation as an ETC to provide voice service. Common carriers not subject to the jurisdiction of the relevant state commission should petition the Federal Communications Commission (Commission) for designation as an ETC.

2. Auction 901 is scheduled to begin on September 27, 2012. Any party that wishes to participate in Auction 901 with respect to an area for which it is not already designated an ETC should initiate the designation process as soon as possible to increase the likelihood that the process will be completed prior to the deadline for submitting an application for Auction 901. The deadline for applications to participate in Auction 901 will be set when the Bureaus release a public notice announcing procedures for the auction. Auction applications in spectrum license auctions typically must be filed two to three months prior to the start of an auction.

3. The Auction 90 ETC Public Notice describes the Commission's designation process, including the requirements for seeking ETC designation from the Commission. Parties should refer to relevant Commission rules and orders to ensure that they meet all the requirements for ETC designation. To the extent that any part of the descriptive overview in the Auction 901 ETC Public Notice may be construed to be inconsistent with the terms of the Commission's orders or rules, the orders and rules govern. The Bureaus provide information on how to facilitate petitions by any party wishing to seek designation as an ETC prior to applying for Auction 901. A party's designation as an ETC may be conditioned upon the party winning support from the Mobility Fund in Auction 901. A current ETC that meets all other applicable requirements may participate in Auction 901 with respect to areas within its current ETC service area without petitioning for any change to its ETC status.

4. A party that seeks an ETC designation from the Commission must certify compliance with certain threshold conditions in order for its petition to be considered. More specifically, an ETC petition to the Commission must contain the following: (1) A certification and brief statement of supporting facts demonstrating that the petitioner is not subject to the jurisdiction of a state commission; (2) a certification that the petitioner offers or intends to offer all services designated for support by the Commission pursuant to 47 U.S.C. 254(c); (3) a certification that the petitioner offers or intends to offer the supported services either using its own facilities or a combination of its own facilities and resale of another carrier's services; (4) a description of how the petitioner advertises the availability of supported services and the charges therefore using media of general distribution; and (5) a detailed description of the geographic service area for which the petitioner requests an ETC designation from the Commission. Petitioners also must certify that neither the petitioner nor any party to the application is subject to a denial of federal benefits, including Commission benefits, pursuant to section 5301 of the Anti-Drug Abuse Act of 1988, as implemented in 47 CFR 1.2002.

5. ETCs must satisfy various service obligations, consistent with the public interest. A party petitioning for designation as an ETC therefore must also: (1) Certify that it will comply with the service requirements applicable to the support that it receives; (2) submit a five-year plan that describes with specificity proposed improvements or upgrades to the applicant's network throughout its proposed service area, with an estimate of the area and population that will be served as a result of the improvements; (3) demonstrate how it will remain functional in emergency situations; and (4) demonstrate that it will satisfy consumer protection and service quality standards.

6. Certain additional requirements apply for parties seeking ETC designation for a service area that includes an area served by a rural telephone company. In such cases, the party's service area will be the rural telephone company's study area unless and until the Commission and the relevant State establish a different definition of the study area, after taking into account factors established by a Federal State Joint Board instituted under the Communications Act. A petitioner seeking designation for a service area that includes, but is not the same as, a rural telephone company's service area must request redefinition. If the Commission grants redefinition, it will then seek agreement from the state commission with jurisdiction over the rural telephone company, even if the petitioner itself is not subject to that state commission's jurisdiction.

7. Pleading Cycle. Consistent with existing Commission procedures regarding designation of eligible telecommunications carriers, upon receipt of a petition for designation pursuant to 47 U.S.C. 214(e)(6) in connection with Phase I of the Mobility Fund, the Commission will issue a public notice establishing a pleading cycle.

Federal Communications Commission.
Gary D. Michaels,
Deputy Chief, Auctions and Spectrum Access Division, WTB.

[FR Doc. 2012-5594 Filed 3-7-12; 8:45 am]

BILLING CODE 6712-01-P